OFFICE OF PERSONNEL MANAGEMENT

Excepted Service

AGENCY: Office of Personnel Management.

ACTION: Notice.

SUMMARY: This gives notice of OPM decisions granting authority to make appointments under Schedules A, B, and C in the excepted service as required by 5 CFR 6.6 and 213.103.

FOR FURTHER INFORMATION CONTACT: Quasette Crowner, Chief, Executive Resources Group, Center for Leadership and Executive Resources Policy, Division for Strategic Human Resources Policy, by phone, 202-606-8046.

SUPPLEMENTARY INFORMATION: Appearing in the listing below are the individual authorities established under Schedules A, B, and C between August 1, 2005, and August 31, 2005. Future notices will be published on the fourth Tuesday of each month, or as soon as possible thereafter. A consolidated listing of all authorities as of June 30 is published each year.

Schedule A

No Schedule A appointments were approved for August 2005.

Schedule B

No Schedule B appointments were approved for August 2005.

Schedule C

The following Schedule C appointments were approved during August 2005:

Section 213.3303 Executive Office of the President

Council on Environmental Quality

EQGS00018 Associate Director for Congressional Affairs to the Chairman (Council on Environmental Quality). Effective August 25, 2005.

Office of Management and Budget

BOGS00041 Deputy Press Secretary to the Associate Director, Strategic Planning and Communications. Effective August 02, 2005.

Office of Science and Technology Policy

TSGS60037 Deputy Chief of Staff to the Chief of Staff. Effective August 23, 2005.

TSGS60034 Public Affairs Specialist to the Chief of Staff and General Counsel. Effective August 25, 2005.

Section 213.3304 Department of State

DSGS60981 Staff Assistant to the Under Secretary for Arms Control and Security Affairs. Effective August 05, 2005.

DSGS60986 Senior Advisor to the Under Secretary for Public Diplomacy and Public Affairs. Effective August 12, 2005.

Section 213.3305 Department of the Treasury

DYGS60414 Executive Assistant to the Deputy Secretary of the Treasury. Effective August 05, 2005.

DYGS00461 Senior Advisor to the Assistant Secretary (Tax Policy). Effective August 23, 2005.

Section 213.3306 Department of the Defense

DDGS16886 Public Affairs Specialist to the Principal Deputy Assistant Secretary of Defense for Public Affairs. Effective August 10, 2005.

DDGS16887 Special Assistant to the Under Secretary of Defense (Acquisition, Technology, and Logistics). Effective August 30, 2005.

Section 213.3307 Department of the Army

DWGS60082 Personal Confidential Assistant to the Under Secretary of the Army. Effective August 12, 2005.

Section 213.3310 Department of Justice

DJGS00251 Director of Advance to the Chief of Staff. Effective August 05, 2005.

DJGS00339 Special Assistant to the Attorney General. Effective August 05, 2005.

DJGS00370 Confidential Assistant to the Attorney General. Effective August 05, 2005.

DJGS00386 Deputy Director of Scheduling to the Director of Scheduling and Advance. Effective August 05, 2005.

DJGS00313 Special Assistant to the Assistant Attorney General (Legal Policy). Effective August 10, 2005.

DJGS00092 Deputy Communications Director to the Director, Office of Public Affairs. Effective August 11, 2005.

DJGS00221 Chief of Staff to the Director, Office for Victims of Crime. Effective August 12, 2005.

DJGS00441 Counsel to the Assistant Attorney General Tax Division. Effective August 12, 2005.

DJGS00060 Senior Advisor for Communications and Strategy to the Assistant Attorney General for Justice Programs. Effective August 16, 2005.

DJGS00118 Special Assistant to the Director, Community Oriented Policy Services. Effective August 17, 2005.

DJGS00050 Senior Advisor to the Administrator of Juvenile Justice and Delinquency Prevention. Effective August 18, 2005.

DJGS00346 Deputy Director to the Director, Office of Public Affairs. Effective August 30, 2005.

Section 213.3311 Department of Homeland Security

DMGS00398 Director of Strategic Communications to the Assistant Secretary for Public Affairs. Effective August 11, 2005.

DMGS00393 Immigration and Customs Enforcement Communications Director to the Assistant Secretary, Immigration and Customs Enforcement. Effective August 12, 2005.

DMGS00395 Senior Advisor to the Chief Medical Officer. Effective August 12, 2005.

DMGS00396 Press Secretary to the Assistant Secretary for Public Affairs. Effective August 12, 2005.

DMGS00401 Director, Ready Campaign to the Assistant Secretary for Public Affairs. Effective August 12, 2005.

DMGS00403 Confidential Assistant to the Executive Secretary. Effective August 12, 2005.

DMGS00404 Senior Advisor, Office of Domestic Preparedness to the Chief of Staff and Senior Policy Advisor. Effective August 12, 2005.

DMGS00405 Assistant Director of Communications for Citizenship and Immigration Services to the Director of Communications for Bureau of Citizenship and Immigration Services. Effective August 15, 2005.

DMGS00397 Special Assistant to the Chief Human Capital Officer. Effective August 17, 2005.

DMGS00399 Confidential Assistant to the Chief of Staff. Effective August 17, 2005.

DMGS00402 Confidential Assistant and Writer-Editor to the Executive Secretary. Effective August 17, 2005.

DMGS00400 Legislative Assistant to the Director of Legislative Affairs for Science and Technology. Effective August 25, 2005.

DMGS00410 Executive Assistant to the Director, Office of Systems Engineering and Acquisition. Effective August 25, 2005.

DMGS00406 Special Assistant to the Director, Domestic Nuclear Detection Office. Effective August 26, 2005.

DMGS00412 Speechwriter to the Director of Communications. Effective August 26, 2005.

DMGS00411 Special Assistant to the Deputy Assistant Secretary for Infrastructure Protection (Policy). Effective August 29, 2005.

DMGS00407 Executive Secretariat for the Academe, Policy, and Research Senior Advisory Committee to the Executive Director, Homeland Security Advisory Council. Effective August 31, 2005.

DMGS00415 Public Affairs Specialist to the Assistant Commissioner for Public Affairs. Effective August 31, 2005.

Section 213.3312 Department of the Interior

DIGS01043 Associate Director for Media and Public Affairs to the Executive Director, Take Pride In America. Effective August 10, 2005.

DIGS01044 Special Assistant for Scheduling and Advance to the Director, Scheduling and Advance. Effective August 23, 2005.

DIGS05004 Special Assistant to the Special Assistant, Bureau of Land Management. Effective August 29, 2005.

DIGS01045 Special Assistant to the Deputy Assistant Secretary—Performance, Accountability, and Human Resources. Effective August 31, 2005.

Section 213.3313 Department of Agriculture

DAGS00814 Confidential Assistant for Homeland Security to the Special Assistant, Office of the Secretary. Effective August 04, 2005.

DAGS00817 Confidential Assistant to the Deputy Administrator, Farm Service Administrator. Effective August 11, 2005.

DAGS00818 Special Assistant to the Deputy Under Secretary for Rural Economic Community Development. Effective August 17, 2005.

DAGS00821 Confidential Assistant to the Administrator, Grain Inspection, Packers and Stockyards Administration. Effective August 29, 2005.

DAGS00819 Special Assistant to the Under Secretary for Food Safety. Effective August 30, 2005.

Section 213.3314 Department of Commerce

DCGS60597 Press Secretary to the Director of Public Affairs. Effective August 02, 2005.

DCGS00631 Policy Advisor to the Under Secretary Oceans and Atmosphere (Administrator, National Oceanic Atmospheric Administration. August 15, 2005.

DCGS60523 Press Secretary to the Director of Public Affairs. Effective August 05, 2005.

DCGS00420 Special Assistant to the Director, Office of Business Liaison. Effective August 23, 2005.

Section 213.3316 Department of Health and Human Services

DHGS60019 Deputy Director of Medicare Outreach and Special Advisor to the Secretary to the Director of Medicare Outreach and Special Advisor to the Secretary. Effective August 02, 2005.

DHGS60133 Special Assistant to the Assistant Secretary for Budget, Technology and Finance. Effective August 04, 2005.

DHGS60636 Senior Advisor to the Director, Indian Health Service. Effective August 11, 2005.

DHGS00009 Senior Advisor to the Deputy Secretary, Health and Human Services. Effective August 12, 2005.

DHGS00269 Chief Acquisitions Officer to the Assistant Secretary for Administration and Management. Effective August 30, 2005.

DHGS60010 Confidential Assistant (Faith-Based) to the Director, Center for Faith Based and Community Initiatives. Effective August 30, 2005.

DHGS60024 Speech Writer to the Assistant Secretary for Public Affairs. Effective August 30, 2005.

Section 213.3317 Department of Education

DBGS00417 Confidential Assistant to the Deputy Chief of Staff for Strategy. Effective August 04, 2005.

DBGS00461 Special Assistant to the Chief of Staff. Effective August 18, 2005.

DBGS00421 Confidential Assistant to the Director, Regional Services. Effective August 19, 2005.

DBGS00422 Deputy Secretary's Regional Representative to the Director, Regional Services. Effective August 19, 2005.

DBGS00423 Secretary's Regional Representative to the Director, Regional Services. Effective August 19, 2005.

DBGS00424 Secretary's Regional Representative to the Director, Regional Services. Effective August 19, 2005.

DBGS00425 Secretary's Regional Representative to the Director, Regional Services. Effective August 19, 2005.

DBGS00427 Secretary's Regional Representative to the Director, Regional Services. Effective August 19, 2005.

DBGS00429 Confidential Assistant to the Chief of Staff. Effective August 19, 2005.

DBGS00430 Confidential Assistant to the Press Secretary. Effective August 19, 2005.

DBGS00431 Press Secretary to the Chief of Staff. Effective August 19, 2005.

DBGS00432 Confidential Assistant to the Chief of Staff. Effective August 19, 2005.

DBGS00433 Deputy Assistant Secretary for External Affairs and Outreach Services to the Chief of Staff. Effective August 19, 2005.

DBGS00434 Special Assistant to the Chief of Staff. Effective August 19, 2005.

DBGS00435 Special Assistant to the Chief of Staff. Effective August 19, 2005.

DBGS00437 Confidential Assistant to the Chief of Staff. Effective August 19, 2005.

DBGS00438 Special Assistant to the Chief of Staff. Effective August 19, 2005.

DBGS00439 Special Assistant to the Special Assistant, Office of Communications and Outreach. Effective August 19, 2005.

DBGS00440 Special Assistant to the Chief of Staff. Effective August 19, 2005.

DBGS00441 Director, Regional Services to the Deputy Assistant Secretary for External Affairs and Outreach Services. Effective August 19, 2005.

DBGS00443 Special Assistant to the Deputy Assistant Secretary for External Affairs and Outreach Services. Effective August 19, 2005.

DBGS00444 Special Assistant to the Chief of Staff. Effective August 19, 2005.

DBGS00446 Deputy Secretary's Regional Representative to the Secretary's Regional Representative, Region 3. Effective August 19, 2005.

DBGS00447 Secretary's Regional Representative, Region 3 to the Director, Regional Services. Effective August 19, 2005.

DBGS00448 Deputy Secretary's Regional Representative to the Director, Regional Services. Effective August 19, 2005.

DBGS00450 Special Assistant, Region 4 to the Secretary's Regional Representative. Effective August 19, 2005.

DBGS00451 Secretary's Regional Representative, Region 5, to the Director, Regional Services. Effective August 19, 2005.

DBGS00452 Secretary's Regional Representative, Region 7, to the Director, Regional Services. Effective August 19, 2005.

DBGS00453 Secretary's Regional Representative, Region 8, to the Director, Regional Services. Effective August 19, 2005.

DBGS00454 Deputy Secretary's Regional Representative, Region 8 to the Director, Regional Services. Effective August 19, 2005.

DBGS00455 Deputy Secretary's Regional Representative—Region X to the Director, Regional Services. Effective August 19, 2005.

DBGS00456 Confidential Assistant to the Chief of Staff. Effective August 19, 2005.

DBGS00457 Confidential Assistant to the Deputy Assistant Secretary for Communication Development. Effective August 19, 2005.

DBGS00459 Special Assistant to the Deputy Assistant Secretary for Communication Development. Effective August 19, 2005.

DBGS00418 Confidential Assistant to the Deputy Secretary of Education. Effective August 23, 2005.

DBGS00458 Confidential Assistant to the Assistant Secretary, Office of Communications and Outreach. Effective August 26, 2005.

DBGS00428 Confidential Assistant to the Deputy Assistant Secretary for External Affairs and Outreach Services. Effective August 29, 2005.

Section 213.3318 Environmental Protection Agency

EPGS04024 Special Assistant to the Administrator (Advance Person) to the Associate Administrator for Public Affairs. Effective August 05, 2005.

EPGS05012 Program Advisor to the Associate Administrator for Congressional and Intergovernmental Relations. Effective August 29, 2005.

Section 213.3325 United States Tax Court

JCGS60070 Trial Clerk to the Chief Judge. Effective August 16, 2005.

Section 213.3327 Department of Veterans Affairs

DVGS60087 Special Assistant to the Assistant Secretary for Information and Technology. Effective August 02, 2005.

DVGS60056 Special Assistant to the Senior Advisor, Office of the Assistant Secretary for Public and Intergovernmental Affairs. Effective August 11, 2005.

Section 213.3330 Securities and Exchange Commission

SEOT90001 Senior Advisor to the Chairman. Effective August 04, 2005.

SEOT90002 Senior Advisor to the Chairman. Effective August 04, 2005.

SEOT90003 Senior Advisor to the Chairman. Effective August 04, 2005.

SEOT90004 Confidential Assistant to the Chairman. Effective August 04, 2005.

Section 213.3331 Department of Energy

DEGS00485 Director, Office of Scheduling and Advance to the Chief of Staff. Effective August 02, 2005.

DEGS00487 Small Business Analyst to the Associate Director, Office of Economic Impact and Diversity. Effective August 02, 2005.

DEGS00488 Special Assistant to the Director, Office of Science. Effective August 02, 2005.

DEGS00489 Special Assistant to the Deputy Secretary of Energy. Effective August 12, 2005.

DEGS00490 Special Assistant to the Chief of Staff. Effective August 30, 2005.

Section 213.3332 Small Business Administration

SBGS00590 Special Assistant to the Associate Administrator for Strategic Alliances. Effective August 02, 2005.

SBGS00591 Special Assistant to the Associate Administrator for Strategic Alliances. Effective August 02, 2005. Section 213.3333 Federal Deposit Insurance Corporation

FDOT00012 Director for Public Affairs and Deputy Chief of Staff to the Chairman of the Board of Directors (Director). Effective August 02, 2005.

Section 213.3337 General Services Administration

GSGS60079 Senior Advisor to the Regional Administrator, Region 2, New York. Effective August 29, 2005.

Section 213.3379 Commodity Futures Trading Commission

CTGS60007 Administrative Assistant to the Commissioner. Effective August 02, 2005.

CTGS60040 General Counsel to the Chairman. Effective August 25, 2005.

Section 213.3384 Department of Housing and Urban Development

DUGS60240 Staff Assistant (Speechwriter) to the Assistant Secretary for Public Affairs. Effective August 11, 2005.

DUGS60110 Staff Assistant to the Assistant Secretary for Housing, Federal Housing Commissioner. Effective August 17, 2005.

DUGS60534 Deputy Director to the Director, Center for Faith Based and Community Initiatives. Effective August 17, 2005.

DUGS60217 Special Policy Advisor to the Assistant Secretary for Policy Development and Research. Effective August 19, 2005.

DUGS60447 Staff Assistant to the Assistant Secretary for Community Planning and Development. Effective August 26, 2005.

Section 213.3394 Department of Transportation

DTGS60311 Special Assistant to the Director for Scheduling and Advance. Effective August 02, 2005.

DTGS60365 Special Assistant to the Assistant Secretary for Transportation Policy. Effective August 02, 2005.

DTGS60243 Speechwriter to the Associate Director for Speechwriting. Effective August 04, 2005.

DTGS60239 Director, Office of Congressional and Public Affairs to the Administrator. Effective August 10, 2005.

DTGS60378 Special Assistant to the Office of the Administrator. Effective August 12, 2005.

DTGS60274 Special Assistant to the Assistant to the Secretary and Director of Public Affairs. Effective August 25, 2005.

DTGS60338 Special Assistant to the Associate Administrator for Policy. Effective August 26, 2005.

Section 213.3396 National Transportation Safety Board

TBGS60105 Confidential Assistant to the Vice Chairman. Effective August 25, 2005.

Authority: 5 U.S.C. 3301 and 3302; E.O. 10577, 3 CFR 1954-1958 Comp., P.218.

Office of Personnel Management.
Linda M. Springer,
Director.

[FR Doc. 05-19902 Filed 10-3-05; 8:45 am]

BILLING CODE 6325-39-P